DEPARTMENT OF HOUSING AND URBAN DEVELOPMENT

[Docket No. FR-4878-N-03]

Final Guidance on Federal Financial Assistance Recipients Regarding Title VI Prohibition Against National Origin Discrimination Affecting Limited English Proficient Persons: Announcement of Meeting

AGENCY: Office of the Assistant Secretary for Fair Housing and Equal Opportunity, HUD.

ACTION: Notice; announcement of meeting.

SUMMARY: On January 22, 2007, HUD published in the Federal Register final guidance on “Federal Financial Assistance Regarding Title VI Prohibition against National Origin Discrimination Affecting Limited English Proficient Persons” (LEP Final Guidance). This guidance becomes effective on February 21, 2007. This notice announces that HUD will hold a meeting at HUD Headquarters on February 13, 2007, to brief interested members of the public on the LEP Final Guidance and respond to questions about the guidance.

DATES: HUD will conduct the meeting on LEP Final Guidance on February 13, 2007.

ADDRESSES: The LEP Guidance meeting will be held from 2 p.m. to 4 p.m. (Eastern time) on February 13, 2007, at HUD Headquarters for which the address is the Department of Housing and Urban Development, 451 Seventh Street, SW, Washington, DC.

Members of the public who are interested in attending this meeting in person must submit a request to HUD by sending an e-mail to limitedenglishproficiency@hud.gov. The e-mail must contain the participant's name, contact information, and basis for interest in this meeting. In addition, participants who require a reasonable accommodation must identify the accommodation they need to attend and fully participate in this meeting. The deadline for submitting requests is Friday, February 9, 2007.

HUD will strive to honor requests on a first-come first-serve basis. However, HUD reserves the right to select participants so as to ensure that there is adequate representation of the various sectors affected by the LEP Final Guidance.

FOR FURTHER INFORMATION CONTACT: Pamela D. Walsh, Director, Program Standards Division, Office of Fair Housing and Equal Opportunity, Department of Housing and Urban Development 451 Seventh Street, SW, Room 5246, Washington, DC 20410-0500; telephone (202) 708-2288 (this is not a toll-free number). Persons with hearing or speech disabilities may access this number through TTY by calling the toll-free Federal Information Relay Service at (800) 877-8339.

To Request Participation in the Meeting: A request to participate in the meeting must be submitted to the following e-mail address: limitedenglishproficiency@hud.gov. The deadline for submitting requests is Friday, February 9, 2007.

SUPPLEMENTARY INFORMATION

Background

On January 22, 2007, HUD published in the Federal Register final guidance to help recipients of federal financial assistance take reasonable steps to meet their regulatory and statutory obligations to ensure that LEP persons have meaningful access to HUD programs and activities. Under Title VI of the Civil Rights Act of 1964 (Title VI) and its implementing regulations, recipients of federal financial assistance have a responsibility to ensure meaningful access to programs and activities by LEP persons.

Executive Order 13166, issued on August 11, 2000, and published in the Federal Register on August 16, 2000 (65 FR 50121), directs each federal agency that extends assistance, which is subject to the requirements of Title VI, to publish guidance for its respective recipients clarifying this obligation. The Department of Justice (DOJ) issued the first LEP guidance as a model for other federal agencies. HUD's guidance adheres to the federal-wide compliance standards and framework detailed in the DOJ model LEP Guidance, published on June 18, 2002 (67 FR 41455). HUD's guidance follows the established format used in the DOJ model. Specific examples set out in HUD's guidance explain and/or highlight how federal-wide compliance standards are applicable to recipients of HUD's federal financial assistance.

The January 22, 2007, LEP Final Guidance was preceded by proposed guidance published on December 19, 2003 (68 FR 70968) for which HUD solicited public comment. The LEP Final Guidance takes into consideration the public comments received on the December 19, 2003, proposed guidance. There are no significant changes between the proposed guidance and the final guidance. However, for purposes of clarification, several minor changes were made in Appendix A, and a new Appendix B has been added to the Guidance. Appendix B, “Questions and Answers (Q&A),” responds to frequently asked questions (FAQs) related to providing meaningful access to LEP persons. HUD's LEP Final Guidance can be found at http://www.hud.gov/offices/fheo/promotingfh/lep.cfm.

February 13, 2007 Meeting

In consideration of widespread interest in HUD's LEP Final Guidance, HUD will hold a meeting on the guidance on February 13, 2007, and interested members of the public are invited to attend this meeting.

Members of the public who are interested in attending the meeting in person must submit a request to HUD by sending an e-mail to limitedenglishproficiency@hud.gov. The email must contain the participant's name, contact information, and basis for interest in this meeting. In addition, participants who require a reasonable accommodation must identify the accommodation they need to attend and fully participate in this meeting.

The deadline for submitting requests is Friday, February 9, 2007.

HUD will strive to honor requests on a first-come first-serve basis. However, HUD reserves the right to select participants so as to ensure that there is adequate representation of the various sectors affected by LEP Final Guidance.

HUD will respond to requests to participate in this meeting and will provide participants with information on attending the February 13, 2007, meeting prior to the meeting date. HUD advises participants that they must comply with security procedures when visiting the HUD building.

Please send any questions regarding the meeting to the above email address. HUD will respond to your questions by e-mail.

Dated: January 19, 2007.
Kim Kendrick,
Assistant Secretary for Fair Housing and Equal Opportunity.

[FR Doc. E7-1178 Filed 1-24-07; 8:45 am]

BILLING CODE 4210-67-P